POSTAL REGULATORY COMMISSION

[Docket No. CP2013-35; Order No. 1823]

International Mail Contract

AGENCY: Postal Regulatory Commission.

ACTION: Notice.

SUMMARY: The Commission is noticing a recent Postal Service filing concerning proposed revisions to the Global Expedited Package Services—Non-Published Rates 4 model contract. This notice informs the public of the filing, invites public comment, and takes other administrative steps.

DATES: Comments are due: September 10, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Postal Service's Filing

III. Commission Action

IV. Ordering Paragraphs

I. Introduction

The Postal Service seeks approval of proposed revisions to the Global Expedited Package Services—Non-Published Rates (GEPS-NPR) 4 model contract.¹ This Order provides public notice of the Postal Service's Notice and addresses other administrative steps.

¹ See Notice of the United States Postal Service Concerning Revisions to Global Expedited Package Services—Non-Published Rates 4 Model Contract, August 28, 2013 (Notice).

II. Postal Service's Filing

On August 28, 2013, the Postal Service filed its Notice, along with redacted and unredacted versions of the revised GEPS-NPR 4 model contract. A redacted version of the revised model contract was filed as Attachment 1 to the Notice. An unredacted version was filed under seal with the Commission. The Postal Service seeks confidential treatment of the sealed version and incorporates by reference the Application for Non-Public Treatment submitted with its December 21, 2012 notice in the instant docket seeking the same treatment for the original version of the GEPS-NPR 4 model contract. Id. at 3.

The Postal Service identifies two types of changes to the model contract. The first set consists of changes to reflect the Postal Service's interest in allowing the rates in each GEPS-NPR 4 contract to remain unchanged throughout the term of each contract. Id. at 1. These changes entail the revision of Paragraph 1 of Article 15; the deletion of Paragraph 2 of Article 15; and the renumbering of the subsequent paragraphs of Article 15. Id. The Postal Service intends to make these revisions to all GEPS-NPR 4 contracts issued to customers after the date of the instant filing. Id. at 2. It also intends to offer a modification to affected existing GEPS-NPR 4 contract holders, and states it will file signed modifications in the applicable dockets. Id.

The Postal Service characterizes the second set of changes as minor. Id. One is a template-wide replacement of the product name “Express Mail International” with “Priority Mail Express International” pursuant to a previous Commission approval of the nomenclature change.² Notice at 2. The other is a revision to the last sentence of Article 12 (Term of the Agreement). Id. at 3. The Postal Service states that this change is intended to simplify reporting of costs and revenues. Id. The revision reads as follows: “The Agreement shall remain in effect for one calendar year from the Effective Date or the last day of the month which falls one calendar year from the Effective Date, whichever is later, unless terminated sooner pursuant to Article 13 or Article 14.” Id. The Postal Service intends to include the second set of changes in GEPS-NPR 4 contracts offered to customers after the filing of the instant Notice. Id. at 2.

² See Docket No. MC2013-45, Order No. 1713, Order Approving Minor Classification Change, May 13, 2013.

III. Commission Action

The Commission reopens Docket No. CP2013-35 to consider matters raised by the Request. Interested persons may submit comments on whether the revisions to the GEPS-NPR 4 model contract proposed in this docket are consistent with the policies of 39 U.S.C. 3632, 3633, or 3642, 39 CFR 3015.5, and 39 CFR part 3020, subpart B. Comments are due no later than September 10, 2013. The public portions of the Postal Service filing can be accessed via the Commission's Web site (http://www.prc.gov). Information on how to obtain access to sealed portions of the filing appears at 39 CFR part 3007.

The Commission appoints James F. Callow to serve as Public Representative in this docket.

IV. Ordering Paragraphs

1. The Commission reopens Docket No. CP2013-35 to consider matters raised in the Postal Service's Request.

2. Pursuant to 39 U.S.C. 505, James F. Callow is appointed to serve as an officer of the Commission (Public Representative) to represent the interests of the general public in these proceedings.

3. Comments by interested persons in these proceedings are due no later than September 10, 2013.

4. The Secretary shall arrange for publication of this order in the Federal Register.

By the Commission.
Shoshana M. Grove,
Secretary.

[FR Doc. 2013-21609 Filed 9-4-13; 8:45 am]

BILLING CODE 7710-FW-P